TENNESSEE VALLEY AUTHORITY

Meeting of the Regional Energy Resource Council

AGENCY: Tennessee Valley Authority (TVA).

ACTION: Notice of Meeting.

SUMMARY: The TVA Regional Energy Resource Council (RERC) will hold an orientation meeting on Wednesday and Thursday, January 22 and 23, 2014, regarding regional energy related issues in the Tennessee Valley.

The RERC was established to advise TVA on its energy resource activities and the priorities among competing objectives and values. Notice of this meeting is given under the Federal Advisory Committee Act (FACA), 5 U.S.C. App. 2.

The meeting agenda includes the following:

1. Welcome and Introductions

2. TVA updates regarding recent Board of Directors decisions

3. Presentations and discussion concerning TVA's Integrated Resource Planning process, focusing on TVA's business objectives including rates, reliability, resiliency and environmental responsibility.

4. Public Comments

5. Council Discussion on the balancing of TVA's business objectives during Integrated Resource Planning.

The RERC will hear opinions and views of citizens by providing a public comment session. The public comment session will be held at 10:00 a.m. EST, on January 23. Persons wishing to speak are requested to register at the door by 9:00 a.m. on Thursday, January 23 and will be called on during the public comment period. Handout materials should be limited to one printed page. Written comments are also invited and may be mailed to the Regional Energy Resource Council, Tennessee Valley Authority, 400 West Summit Hill Drive, WT-11 B, Knoxville, Tennessee 37902.

DATES: The meeting will be held on Wednesday, January 22, from 12:45 to 4:45 p.m. and Thursday, January 23 from 8:00 a.m. to noon EST.

ADDRESSES: The meeting will be held at the Tennessee Valley Authority, 400 West Summit Hill Drive, Knoxville, TN 37902 and will be open to the public. Anyone needing special access or accommodations should let the contact below know at least a week in advance.

FOR FURTHER INFORMATION CONTACT: Beth Keel, 400 West Summit Hill Drive, WT-11 B, Knoxville, Tennessee 37902, (865) 632-6113.

Dated: December 19, 2013.
Joseph J. Hoagland,
Vice President, Stakeholder Relations, Tennessee Valley Authority.

[FR Doc. 2013-30855 Filed 12-24-13; 8:45 am]

BILLING CODE 8120-08-P